DEPARTMENT OF COMMERCE

National Oceanic and Atmospheric Administration

Notice of Availability of a Record of Decision

AGENCY: Office for Coastal Management, National Ocean Service, National Oceanic and Atmospheric Administration, Department of Commerce.

ACTION: Notice of availability of a record of decision.

SUMMARY: The National Oceanic and Atmospheric Administration's (NOAA's) National Ocean Service (NOS) announces the availability of the Record of Decision (ROD) for the Coral Reef Conservation Program's (CRCP's) final Programmatic Environmental Impact Statement (PEIS). On August 20, 2020, the NOS Acting Assistant Administrator signed the ROD, which constitutes the agency's final decision.

FOR FURTHER INFORMATION CONTACT: Liz Fairey, NMFS Office of Habitat Conservation, NOAA Coral Reef Conservation Program, 1315 East-West Highway, Silver Spring, MD 20910, liz.fairey@noaa.gov.

SUPPLEMENTARY INFORMATION: On July 11, 2018, NOAA published the Notice of Intent to prepare a PEIS for continued operation of NOAA's CRCP. The public comment period for scoping ended on August 15, 2018. Three individuals/organizations submitted comments during the 35-day scoping period, and CRCP considered these comments in the drafting of the PEIS.

On December 13, 2019, NOAA published a draft PEIS for coral reef conservation and restoration activities conducted by CRCP throughout parts of the United States, including the South Atlantic Ocean, Gulf of Mexico, and Remote Pacific Islands, and priority international areas (i.e., wider Caribbean, Coral Triangle, South Pacific, and Micronesia). The public comment period for the draft PEIS ended on January 27, 2020. Thirteen individuals/organizations submitted comments during the 45-day comment period. Appendix I of the final PEIS outlines how the final PEIS responds to the comments.

On July 17, 2020, the Environmental Protection Agency (EPA) published a notice of availability of the final PEIS in the Federal Register (85 FR 43580). NOAA did as well (85 FR 43544). The waiting period for the final PEIS ended on August 17, 2020. The NEPA implementing regulations at 40 CFR 1506.10 require a minimum 30-day waiting period between the time the EPA publishes its Federal Register notice and the time an agency makes a decision on the proposed action covered by the EIS. Except for a supportive letter from EPA, CRCP did not receive any comments during the 30-day waiting period. CRCP has reviewed the final PEIS and concluded that it fully analyzes the issues covered by the draft PEIS and addresses the comments and suggestions submitted by commenters. This notice advises the public that the 30-day waiting period has elapsed and that the ROD is available, documenting CRCP's decision to select and implement the No Action Alternative.

Electronic copies of the PEIS and the ROD are available at https://coralreef.noaa.gov/about/enviro-compliance.html and https://coast.noaa.gov/czm/compliance/. The preparation of the ROD was conducted in accordance with the requirements of NEPA, the Council on Environmental Quality's Regulations (40 CFR parts 1500-1508), and NOAA's NEPA-implementing policies and procedures.

Dated: August 21, 2020.
Keelin Kuipers,
Deputy Director, Office for Coastal Management, National Ocean Service, National Oceanic and Atmospheric Administration.

[FR Doc. 2020-18798 Filed 8-26-20; 8:45 am]

BILLING CODE 3510-22-P